ENVIRONMENTAL PROTECTION AGENCY

[FRL-9992-30-Region 3]

Clean Water Act: West Virginia's NPDES Program Revision

AGENCY: Environmental Protection Agency (EPA).

ACTION: Notice of approval.

SUMMARY: The State of West Virginia has submitted revisions to its authorized National Pollutant Discharge Elimination System (NPDES) program for the U.S. Environmental Protection Agency's (EPA) review. These revisions consist of amendments to the West Virginia Water Pollution Control Act and to West Virginia's Code of State Regulations. The EPA reviewed and responded to the comments received during the public comments request published in the Federal Register dated on September 17, 2018. For the reasons set forth in the administrative record, EPA announces the approval of these revisions because West Virginia's NPDES program addressed by the revisions remains consistent with the applicable requirements in the Clean Water Act.

FOR FURTHER INFORMATION CONTACT: For additional information, contact Francisco Cruz at (215) 814-5734 or cruz.francisco@epa.gov.

SUPPLEMENTARY INFORMATION: Title 40 CFR 123.62(b)(3) states that the EPA will approve or disapprove program revisions on the requirements of this part. Furthermore, title 40 CFR 123.62(b)(4) indicates that a program revision shall become effective upon the approval of the EPA. These revisions are effective on March 27, 2019.

Dated: April 3, 2019.
Catherine A. Libertz,
Director, Water Protection Division, U. S. Environmental Protection Agency, Region 3.

[FR Doc. 2019-07566 Filed 4-16-19; 8:45 am]

BILLING CODE 6560-50-P